DEPARTMENT OF HOMELAND SECURITY

Federal Emergency Management Agency

[Docket ID FEMA-2025-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Risk Analysis, Planning & Information Directorate, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

The current effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Kristin E. Fontenot,
Assistant Administrator, Risk Analysis, Planning & Information Directorate, Federal Emergency Management Agency, Department of Homeland Security.

State and county | Location and case No. | Chief executive officer of community | Community map repository | Date of modification | Community No.
Alabama: Limestone (FEMA Docket No.: B-2501). | City of Athens (24-04-2174P). | The Honorable William Marks, Mayor, City of Athens, P.O. Box 1089, Athens, AL 35612. | Engineering and Community Development Department, 200 Hobbs Street West, Athens, AL 35611. | May 8, 2025 | 010146
Florida:
Collier (FEMA Docket No.: B-2501). | City of Naples (24-04-6638P). | The Honorable Teresa Heitmann, Mayor, City of Naples, 735 8th Street South, Naples, FL 34102. | City Hall, 735 8th Street South, Naples, FL 34102. | Apr. 28, 2025 | 125130
Collier (FEMA Docket No.: B-2501). | City of Naples (24-04-7529P). | The Honorable Teresa Heitmann, Mayor, City of Naples, 735 8th Street South, Naples, FL 34102. | City Hall, 735 8th Street South, Naples, FL 34102. | Apr. 23, 2025 | 125130
Lee (FEMA Docket No.: B-2501). | City of Fort Myers (24-04-3429P). | Marty Lawing, Manager, City of Fort Myers, 2200 2nd Street, Fort Myers, FL 33901. | City Hall, 2200 2nd Street, Fort Myers, FL 33901. | Apr. 23, 2025 | 125106
Lee (FEMA Docket No.: B-2501). | Unincorporated areas of Lee County (24-04-6934X). | Roger Desjarlais, Lee County Manager, 2115 2nd Street, Fort Myers, FL 33901. | Lee County Government Center, 1039 Southeast 9th Place, Room 309, Cape Coral, FL 33990. | Apr. 8, 2025 | 125124
Lee (FEMA Docket No.: B-2501). | Village of Estero (24-04-6934X). | The Honorable Jon McLain, Mayor, Village of Estero, 9401 Corkscrew Palms Circle, Estero, FL 33928. | Village Hall, 9401 Corkscrew Palms Circle, Estero, FL 33928. | Apr. 8, 2025 | 120260
Manatee (FEMA Docket No.: B-2501). | Unincorporated areas of Manatee County (24-04-3997P). | Charlie Bishop, Manatee County Administrator, 1112 Manatee Avenue West, Bradenton, FL 34205. | Manatee County Administration Building, 1112 Manatee Avenue West, Bradenton, FL 34205. | Apr. 21, 2025 | 120153
Illinois:
Cook (FEMA Docket No.: B-2501). | Village of Flossmoor (25-05-0095P). | The Honorable Michelle Nelson, Mayor, Village of Flossmoor, 2800 Flossmoor Road, Flossmoor, IL 60422. | Public Works Service Center, 1700 Central Park Avenue, Flossmoor, IL 60422. | Apr. 28, 2025 | 170091
Will (FEMA Docket No.: B-2501). | City of Lockport (24-05-0838P). | The Honorable Steven Streit, Mayor, City of Lockport, 222 East 9th Street, Lockport, IL 60441. | Public Works and Engineering Department, 17112 South Prime Boulevard, Lockport, IL 60441. | Apr. 21, 2025 | 170703
Will (FEMA Docket No.: B-2501). | Unincorporated areas of Will County (24-05-0838P). | Jennifer Bertino-Tarrant, Will County Executive, Will County Office Building, 302 North Chicago Street, Joliet, IL 60432. | Will County Land Use Department, 58 East Clinton Street, Suite 100, Joliet, IL 60432. | Apr. 21, 2025 | 170695
Indianna: Allen (FEMA Docket No.: B-2501). | City of Fort Wayne (23-05-2185P). | The Honorable Sharon Tucker, Mayor, City of Fort Wayne, 200 East Berry Street, Suite 420, Fort Wayne, IN 46802. | Department of Planning Services, 200 East Berry Street, Suite 150, Fort Wayne, IN 46802. | Apr. 21, 2025 | 180093
Kentucky: Johnson (FEMA Docket No.: B-2506). | Metropolitan Government of Louisville and Jefferson County (24-04-0693P). | The Honorable Craig Greenberg, Mayor, Metropolitan Government of Louisville, and Jefferson County, 527 West Jefferson Street, Louisville, KY 40202. | Louisville/Jefferson County Metropolitan Sewer District, 700 West Liberty Street, Louisville, KY 40203. | Apr. 25, 2025 | 210120
Kansas:
Sumner (FEMA Docket No.: B-2501). | City of Wellington (22-07-1014P). | The Honorable Joe Soria, Mayor, City of Wellington, 317 South Washington Avenue, Wellington, KS 67152. | City Hall, 317 South Washington Avenue, Wellington, KS 67152. | Apr. 18, 2025 | 200349
Sumner (FEMA Docket No.: B-2501). | Unincorporated areas of Sumner County (22-07-1014P). | The Honorable John Cooney, Chair, Sumner County Board of Commissioners, 501 North Washington Avenue, Wellington, KS 67152. | Sumner County Planning, Zoning, Environmental Health, 110 East 10th Street, Wellington, KS 67152. | Apr. 18, 2025 | 200348
New Mexico:
Bernalillo (FEMA Docket No.: B-2506). | City of Albuquerque (24-06-0016P). | The Honorable Timothy M. Keller, Mayor, City of Albuquerque, 400 Marquette Avenue Northwest, Albuquerque, NM 87102. | Planning Department, 600 2nd Street Northwest, Albuquerque, NM 87102. | Apr. 14, 2025 | 350002
Bernalillo (FEMA Docket No.: B-2506). | City of Albuquerque (24-06-1214P). | The Honorable Timothy M. Keller, Mayor, City of Albuquerque, 400 Marquette Avenue Northwest, Albuquerque, NM 87102. | Planning Department, 600 2nd Street Northwest, Albuquerque, NM 87102. | Apr. 18, 2025 | 350002
Bernalillo (FEMA Docket No.: B-2506). | City of Rio Rancho (24-06-1214P). | The Honorable Greggory D. Hull, Mayor, City of Rio Rancho, 3200 Civic Center Circle Northeast, Rio Rancho, NM 87144. | City Hall, 3200 Civic Center Circle Northeast, Rio Rancho, NM 87144. | Apr. 18, 2025 | 350146
Bernalillo (FEMA Docket No.: B-2506). | Unincorporated areas of Bernalillo County (24-06-0016P). | Cindy Chavez, Manager, Bernalillo County, 415 Silver Avenue Southwest, Albuquerque, NM 87102. | Bernalillo County Clerk's Office, 415 Silver Avenue Southwest, Albuquerque, NM 87102. | Apr. 14, 2025 | 350001
Oklahoma:
Tulsa (FEMA Docket No.: B-2479). | City of Broken Arrow (24-06-1387P). | The Honorable Debra Wimpee, Mayor, City of Broken Arrow, 220 South 1st Street, Broken Arrow, OK 74012. | City Hall, 485 North Poplar Avenue, Broken Arrow, OK 74012. | Mar. 3, 2025 | 400236
Tulsa (FEMA Docket No.: B-2479). | City of Tulsa (24-06-1387P). | The Honorable G.T. Bynum, Mayor, City of Tulsa, 175 East 2nd Street, Suite 690, Tulsa, OK 74103. | City Hall, 175 East 2nd Street, Suite 690, Tulsa, OK 74103. | Mar. 3, 2025 | 405381
Pennsylvania:
Montour (FEMA Docket No.: B-2479). | Borough of Danville (24-03-0757P). | The Honorable Bernie Swank, Mayor, Borough of Danville, 218 Iron Street, Danville, PA 17821. | Borough Hall, 463 Mill Street, Danville, PA 17821. | Feb. 28, 2025 | 420714
Montour (FEMA Docket No.: B-2479). | Township of Mahoning (24-03-0757P). | Bill Lynn, Chair, Township of Mahoning Board of Supervisors, 849 Bloom Road, Danville, PA 17821. | Township Hall, 849 Bloom Road, Danville, PA 17821. | Feb. 28, 2025 | 421234
Texas:
Dallas (FEMA Docket No.: B-2501). | City of Sachse (24-06-0362P). | The Honorable Jeff Bickerstaff, Mayor, City of Sachse, 3815 Sachse Road, Building B, Sachse, TX 75048. | City Hall, 3815 Sachse Road, Building B, Sachse, TX 75048. | Apr. 18, 2025 | 480186
Harris (FEMA Docket No.: B-2501). | Unincorporated areas of Harris County (24-06-2517P). | The Honorable Lina Hidalgo, Harris County Judge, 1001 Preston Street, Suite 911, Houston, TX 77002. | Harris County Civil Courthouse, 201 Caroline Street, 4th Floor, Houston, TX 77002. | Apr. 21, 2025 | 480287
Kaufman (FEMA Docket No.: B-2501). | Unincorporated areas of Kaufman County (24-06-1043P). | The Honorable Jakie Allen, Kaufman County Judge, 1902 East U.S. Highway 175, Kaufman, TX 75142. | Kaufman County Development Services Department, 101 North Houston Street, Kaufman, TX 75142. | Apr. 18, 2025 | 480411
McLennan (FEMA Docket No.: B-2501). | City of Waco (24-06-0932P). | The Honorable Jim Holmes, Mayor, City of Waco, P.O. Box 2570, Waco, TX 76702. | Dr. Mae Jackson Development Center, 401 Franklin Avenue, Waco, TX 76701. | Apr. 28, 2025 | 480461
Montgomery (FEMA Docket No.: B-2501). | Unincorporated areas of Montgomery County (24-06-2517P). | The Honorable Mark J. Keough, Montgomery County Judge, 501 North Thompson Street, Suite 401, Conroe, TX 77301. | Montgomery County Commissioners Court Building, 501 North Thompson Street, Suite 100, Conroe, TX 77301. | Apr. 21, 2025 | 480483
Rockwall (FEMA Docket No.: B-2501). | City of Fate (24-06-2333P). | The Honorable David Billings, Mayor, City of Fate, 1900 C.D. Boren Parkway, Fate, TX 75087. | City Hall, 1900 C.D. Boren Parkway, Fate, TX 75087. | Apr. 25, 2025 | 480544
Rockwall (FEMA Docket No.: B-2501). | City of Rockwall (24-06-2333P). | The Honorable Trace Johannesen, Mayor, City of Rockwall, 385 South Goliad Street, Rockwall, TX 75087. | City Hall, 385 South Goliad Street, Rockwall, TX 75087. | Apr. 25, 2025 | 480547
Tarrant (FEMA Docket No.: B-2501). | City of Fort Worth (24-06-0668P). | The Honorable Mattie Parker, Mayor, City of Fort Worth, 100 Fort Worth Trail, Fort Worth, TX 76102. | Department of Transportation and Public Works, Stormwater Management Division, 100 Fort Worth Trail, Fort Worth, TX 76102. | Apr. 17, 2025 | 480596

[FR Doc. 2025-10699 Filed 6-11-25; 8:45 am]

BILLING CODE 9110-12-P